DEPARTMENT OF COMMERCE

International Trade Administration

[A-821-801 and A-823-801]

Notice of Continuation of Antidumping Duty Orders: Solid Urea from the Russian Federation and Ukraine

AGENCY: Import Administration, International Trade Administration, Department of Commerce.

SUMMARY: As a result of the determinations by the Department of Commerce (“Department”) and the International Trade Commission (“Commission”) that revocation of these antidumping duty orders would be likely to lead to continuation or recurrence of dumping and material injury to an industry in the United States, pursuant to section 751(c) of the Tariff Act of 1930, as amended (“the Act”), the Department hereby orders the continuation of the antidumping duty orders on solid urea from the Russian Federation (“Russia”) and Ukraine. The Department is publishing notice of the continuation of these antidumping duty orders.

EFFECTIVE DATE: January 5, 2006.

FOR FURTHER INFORMATION CONTACT: Hilary E. Sadler, Esq. or Maureen Flannery, Office 8, Import Administration, International Trade Administration, U.S. Department of Commerce, 14th Street and Constitution Avenue, NW., Washington, DC 20230; telephone: (202) 482-4340 or 482-3020, respectively.

SUPPLEMENTARY INFORMATION:

Background

On October 1, 2004, the Department initiated and the Commission instituted sunset reviews of the antidumping duty orders on solid urea from Russia and Ukraine pursuant to section 751(c) of the Act.¹ As a result of its reviews, the Department found that revocation of the antidumping duty orders would be likely to lead to continuation or recurrence of dumping and notified the Commission of the magnitude of the margins likely to prevail were the orders to be revoked.²

¹ See Initiation of Five-Year (“Sunset”) Reviews, 69 FR 58890 (October 1, 2004).

² See Solid Urea from Ukraine; Final Results of the Expedited Sunset Review of the Antidumping Duty Order, 70 FR 24394 (May 9, 2005) and Solid Urea from the Russian Federation; Final Results of the Expedited Sunset Review of the Antidumping Duty Order, 70 FR 24528 (May 10, 2005).

On November 17, 2005, the Commission determined, pursuant to section 751(c) of the Act, that revocation of the antidumping duty orders on solid urea from Russia and Ukraine would be likely to lead to continuation or recurrence of material injury to an industry in the United States within a reasonably foreseeable time. See Solid Urea from Russia and Ukraine, 70 FR 74846 (December 16, 2005), USITC Publication 3821 (December 2005) (Investigations Nos. 731-TA-340-E & H (Second Review)).

Scope of the Orders

The merchandise covered by these orders is solid urea, a high-nitrogen content fertilizer which is produced by reacting ammonia with carbon dioxide. The product is currently classified under the Harmonized Tariff Schedules of the United States Annotated (“HTS”) item 3102.10.00.00. During previous reviews such merchandise was classified under item number 480.3000 of the Tariff Schedules of the United States. The HTS item number is provided for convenience and customs purposes. The written description remains dispositive as to the scope of the product coverage.

Determination

As a result of the determinations by the Department and the Commission that revocation of these antidumping duty orders would be likely to lead to continuation or recurrence of dumping and material injury to an industry in the United States, pursuant to section 751(d)(2) of the Act, the Department hereby orders the continuation of the antidumping duty orders on solid urea from Russia and Ukraine.

The Department will instruct U.S. Customs and Border Protection to continue to collect antidumping duty deposits at the rates in effect at the time of entry for all imports of subject merchandise. The effective date of the continuation for these orders is the date of publication in the Federal Register of this Notice of Continuation. Pursuant to section 751(c)(2) of the Act, the Department intends to initiate the next five-year review of these antidumping orders not later than December 2010.

These sunset reviews and this Notice of Continuation are in accordance with section 751(c) of the Act and published pursuant to 777(i) of the Act.

Dated: December 23, 2005.
Stephen J. Claeys,
Acting Assistant Secretary for Import Administration.

[FR Doc. E5-8326 Filed 1-4-06; 8:45 am]

BILLING CODE 3510-DS-S